FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011117-042.

Title: United States/Australasia Discussion Agreement.

Parties: A.P. Moller-Maersk A/S and Safmarine Container Lines NV; ANL Singapore Pte Ltd.; CMA-CGM, S.A.; Compagnie Maritime Marfret S.A.; Hamburg-Süd; Hapag-Lloyd AG; and Wallenius Wilhelmsen Logistics AS.

Filing Party: Wayne R. Rohde, Esq.; Sher & Blackwell LLP; 1850 M Street, NW.; Suite 900; Washington, DC 20036.

Synopsis: The amendment deletes CP Ships USA, LLC and Australia-New Zealand Direct Line as parties to the agreement.

Agreement No.: 011776-003.

Title: HLAG/CSAV Slot Charter Agreement.

Parties: Compañia Sud Americana de Vapores S.A. and Hapag-Lloyd AG.

Filing Party: Wayne R. Rohde, Esq.; Sher & Blackwell LLP; 1850 M Street, NW.; Suite 900; Washington, DC 20036.

Synopsis: The amendment deletes CP Ships USA, LLC as a party to the agreement, adds Hapag-Lloyd AG, and restates and renames the agreement.

Agreement No.: 011839-004.

Title: Med-Gulf Space Charter Agreement.

Parties: Hapag-Lloyd AG and Compania Sud Americana de Vapores S.A.

Filing Party: Wayne R. Rohde, Esq.; Sher & Blackwell LLP; 1850 M Street, NW.; Suite 900; Washington, DC 20036.

Synopsis: The amendment changes Hapag-Lloyd's name to Hapag-Lloyd AG.

Agreement No.: 011878-002.

Title: HLAG/MOL Slot Charter Agreement.

Parties: Hapag-Lloyd AG and Mitsui O.S.K. Lines, Ltd.

Filing Party: Wayne R. Rohde, Esq.; Sher & Blackwell LLP; 1850 M Street, NW.; Suite 900; Washington, DC 20036.

Synopsis: The amendment deletes CP Ships USA, LLC as a party to the agreement, adds Hapag-Lloyd AG, and restates and renames the agreement.

Agreement No.: 011891-002.

Title: Hapag-Lloyd/NYK Space Charter Agreement.

Parties: Hapag-Lloyd AG and Nippon Yusen Kaisha.

Filing Party: Wayne R. Rohde, Esq.; Sher & Blackwell LLP; 1850 M Street, NW.; Suite 900; Washington, DC 20036.

Synopsis: The amendment changes Hapag-Lloyd's name and updates contact information for NYK.

Agreement No.: 011925-001.

Title: WHL/Norasia/Sinolines Slot Exchange and Sailing Agreement.

Parties: Wan Hai Lines Ltd.; Norasia Container Lines Limited; and Sinotrans Container Lines Co., Ltd.

Filing Party: Robert B. Yoshitomi, Esq.; Nixon Peabody LLP; 2040 Main Street, Suite 850; Irvine, DA 92614.

Synopsis: The agreement adds Sinotrans Container Lines Co., Ltd. as a party to the agreement and clarifies various terms.

By Order of the Federal Maritime Commission.
Dated: September 8, 2006.
Karen V. Gregory,
Assistant Secretary.

[FR Doc. E6-15210 Filed 9-12-06; 8:45 am]

BILLING CODE 6730-01-P